COMMODITY FUTURES TRADING COMMISSION

17 CFR Part 160

Privacy of Consumer Financial Information

Correction

In correction document C1-10398 beginning on page 24183 in the issue of Friday, May 11, 2001, make the following correction:

§160.18 [Corrected]

On page 24183, in the second column, §160.18(a) lines six and seven, “March 31, 2001” should read “March 31, 2002”.

[FR Doc. C1-10398 Filed 2-12-02; 8:45 am]

BILLING CODE 1505-01-D

GENERAL SERVICES ADMINISTARTION

41 CFR Part 302-11

RIN 3090-AH55

Federal Travel Regulation; Relocation Income Tax (RIT) Allowance Tax Tables

Correction

In rule document 02-2431 beginning on page 4923 in the issue of Friday, February 1, 2002, make the following corrections:

PART 302-11 [CORRECTED]

1. On page 4923, in the third column, the part head is corrected to read as follows:

PART 302-11 RELOCATION INCOME TAX (RIT) ALLOWNACE

Appendix B to Part 302 [Corrected]

2. On the same page, in the third column, in appendix B, fifth line from the bottom, “§301-11.8(e)(2)” should read, “§302-11.8(e)(2)”.

3. On page 4924, in the table, first column, under “California” “If single status⁴” should read, “If single status³”.

4. On the same page, in the table, second column, “$20,000-$24,999”, under “Minnesota” “5.36” should read “5.35”.

5. On the same page, in the table, fourth column “$50,000-$74,999” under “Minnesota” “7.05” should read “7.85”.

[FR Doc. C2-2431 Filed 2-12-02; 8:45 am]

BILLING CODE 1505-01-D